NUCLEAR REGULATORY COMMISSION

[Docket No. 050-155]

Notice of Availability of Environmental Assessment and Finding of No Significant Impact Approval of the License Termination Plan for the Big Rock Point Reactor Facility, Charlevoix, MI

AGENCY: Nuclear Regulatory Commission.

ACTION: Notice of availability.

FOR FURTHER INFORMATION CONTACT: James C. Shepherd, Project Engineer, Decommissioning Directorate, Division of Waste Management and Environmental Protection, Office of Nuclear Material Safety and Safeguards, U.S. Nuclear Regulatory Commission, Rockville, Maryland 20852. Telephone: (301) 415-6712; fax number: (301) 415-5398; e-mail: jcs2@nrc.gov.

SUPPLEMENTARY INFORMATION:

I. Introduction

The U.S. Nuclear Regulatory Commission (NRC) is considering issuing an amendment to Facility Operating License No. DPR-6, issued to the Consumers Energy (CE) Company (licensee), that would authorize CE to implement the License Termination Plan (LTP) submitted for the Big Rock Point Power Station (BRP). The NRC prepared this environmental assessment (EA) to determine the environmental effects from LTP approval and subsequent release of the site for unrestricted use, as described in the final rule “Radiological Criteria for License Termination” (62 FR 39058). The NRC is issuing this environmental assessment and finding of no significant impact pursuant to 10 CFR 51.21.

II. EA Summary

The purpose of the proposed action is to authorize the licensee to complete decommissioning of the Big Rock Point site to unrestricted release criteria as defined in 10 CFR 20.1402, i.e. that the calculated dose to a member of the public from residual radiation at the site will be less than 25 mrem per year. All systems and equipment used during reactor operation will be removed from the site and disposed in accordance with regulations, except for the cooling water intake that will remain submerged in Lake Michigan, and the facility septic drain field located about 100 meters (300 feet) west of the former reactor facility. The licensee has moved all reactor fuel to an independent spent fuel storage installation (ISFSI) located about one kilometer (one half mile) south of the former reactor area. The ISFSI and its support facilities will be maintained until the fuel is transferred to Department of Energy, expected to occur about 2012.

The staff has prepared the EA in support of the proposed license amendment. The NRC has examined the licensee's proposed amendment request and concluded that there are no significant radiological environmental impacts associated with this action, and it will not result in significant nonradiological environmental impacts.

III. Finding of No Significant Impact

On the basis of the EA, NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are: (1) The licensee's License Termination Plan, Rev. 0, dated April 1, 2004, ML031050635, (2) the licensee's License Termination Plan, Rev. 1, dated July 1, 2004, ML042640320, and (3) the EA, ML042890054. If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated at Rockville, Maryland, this 11th day of March 2005.
For the Nuclear Regulatory Commission.
Daniel M. Gillen,
Deputy Director, Decommissioning Directorate, Division of Waste Management and Environmental Protection, Office of Nuclear Material Safety and Safeguards.

[FR Doc. 05-5474 Filed 3-18-05; 8:45 am]

BILLING CODE 7590-01-P